DEPARTMENT OF LABOR

Office of the Secretary

Agency Information Collection Activities; Submission for OMB Review; Comment Request; Transition Assistance Program (TAP) Email/Text Pilot Study: Survey To Assess Use of AJC Services and Collect Feedback

AGENCY: Office of the Assistant Secretary for Policy, Chief Evaluation Office.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed Information Collection Request can be obtained by contacting the office listed below in the addressee section of this notice.

DATES: Written comments must be submitted to the office listed in the addressee section below on or before August 16, 2016.

ADDRESSES: You may submit comments by either one of the following methods: Email: ChiefEvaluationOffice@dol.gov; Mail or Courier: Janet Javar, Chief Evaluation Office, U.S. Department of Labor, Room S-2312, 200 Constitution Avenue NW., Washington, DC 20210.

Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Janet Javar by email at ChiefEvaluationOffice@dol.gov.

SUPPLEMENTARY INFORMATION:

I. Background

The Department of Labor (DOL) provides career readiness support for Service Members separating from the military and transitioning to civilian employment. Prior to separation, DOL provides the Transition Assistance Program (TAP) Employment Workshop and encourages separating Service Members to connect with an American Job Center (AJC). After separation, DOL provides career and employment services for recently separated veterans at AJC locations throughout the United States. AJCs provide support services for recently separated Service Members, including help with building and tailoring a resume, one-on-one career counseling, and translating military experience and skills to civilian careers.

This data collection is part of an evaluation designed to improve DOL's understanding of how emails and/or text reminders could be used to encourage Army soldiers in the E1 to E6 pay grades to take advantage of free career and employment services provided by AJCs. This may inform future enhancements to the military's transition process in the TAP Employment Workshop to improve civilian employment among veterans. Army soldiers in the E1 to E6 pay grades represent a group that may experience longer unemployment after separation, may be less likely to take advantage of TAP services or meet Career Readiness Standards, and may stand to benefit more significantly from the services offered by AJCs than soldiers at higher ranks. The Army soldiers in the E1 to E6 pay grades who are participating in the TAP Employment Workshop will receive both pre-separation and post-separation reminders by email, text, or both (depending on the soldier's selected preference). The reminders may contain general and specific information about AJC services, a link to the AJC locator, and how to schedule an appointment with an AJC representative. This study will involve the collection of data through a web-based survey of the Army veterans who participated in the TAP Employment Workshop and agreed to be a part of the study.

II. Desired Focus of Comments

The Department of Labor is soliciting comments concerning the data collection described above. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions

At this time, the Department of Labor is requesting clearance for the web-based survey of recently separated Army veterans as part of the TAP Email/Text Pilot Study.

Type of review: New information collection request.

OMB Control Number: 1205-0NEW

Affected Public: Individuals (recently separated Army veterans who participated in the Department of Labor's Transition Assistance Program Employment Workshop).

Estimated Burden Hours
Respondents of wed-based survey | Estimated total respondents | Frequency | Total responses | Average time per response (hours) | Estimated total burden hours
Individuals (recently separated Army veterans who participated in the Transition Assistance Program Employment Workshop) | 1,452 | Twice | 2,904 | 0.167 | 485
Totals | 1,452 |  | 2,904 |  | 485

Comments submitted in response to this request will be summarized and/or included in the request for Office of Management and Budget approval; they will also become a matter of public record.

Sharon Block,
Principal Deputy Assistant Secretary for Policy, U.S. Department of Labor.

[FR Doc. 2016-14408 Filed 6-16-16; 8:45 am]

BILLING CODE 4510-HX-P